DEPARTMENT OF ENERGY

Federal Energy Regulatory Commission

[Docket No. IC14-6-000]

Commission Information Collection Activities (FERC-600); Comment Request

AGENCY: Federal Energy Regulatory Commission, Department of Energy (DOE).

ACTION: Comment request.

SUMMARY: In compliance with the requirements of the Paperwork Reduction Act of 1995, the Federal Energy Regulatory Commission (Commission or FERC) is submitting its information collection FERC-600 (Rules of Practice and Procedure: Complaint Procedures) to the Office of Management and Budget (OMB) for review of the information collection requirements. Any interested person may file comments directly with OMB and should address a copy of those comments to the Commission as explained below. The Commission previously issued a Notice in the Federal Register (79 FR 7651, 2/10/2014) requesting public comments. The Commission received no comments on the FERC-600.

DATES: Comments on the collection of information are due by May 30, 2014.

ADDRESSES: Comments filed with OMB, identified by the OMB Control No. 1902-0180, should be sent via email to the Office of Information and Regulatory Affairs: oira_submission@omb.gov. Attention: Federal Energy Regulatory Commission Desk Officer. The Desk Officer may also be reached via telephone at 202-395-4718.

A copy of the comments should also be sent to the Commission, in Docket No. IC14-6-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC-600, Rules of Practice and Procedure: Complaint Procedures.

OMB Control No.: 1902-0180.

Type of Request: Three-year extension of the FERC-600 information collection requirements with no changes to the reporting requirements.

Abstract: The information is used by the Commission to implement the statutory provisions of the Federal Power Act (FPA), 16 U.S.C./791a-825r; the Natural Gas Act (NGA), 15 U.S.C. 717-717w; the Natural Gas Policy Act (NGPA), 15 U.S.C. 3301-3432; the Public Utility Regulatory Policies Act of 1978 (PURPA), 16 U.S.C. 2601-2645; the Interstate Commerce Act (ICA), 49 App. U.S.C. 1 et. seq.; the Outer Continental Shelf Lands Act, 43 U.S.C. 1301-1356; and the Energy Policy Act of 2005, (Pub. L. 109-58) 119 Stat. 594.

For the natural gas industry, section 14(a) of the NGA ¹ provides that the Commission may permit any person to file with it a statement in writing, under oath or otherwise, as it shall determine, as to any or all facts and circumstances concerning a matter which may be the subject of an investigation.

¹ 15 U.S.C. 717m; accord 15 U.S.C. 717d.

For public utilities, section 307(a) of the FPA ² provides that the Commission may permit any person to file with it a statement in writing, under oath or otherwise, as it shall determine, as to any or all facts and circumstances concerning a matter which may be the subject of an investigation.

² 16 U.S.C. 825f(a); accord 16 U.S.C. 824e.

Section 215(d)(5) of the FPA ³ provides that the Commission, upon its own motion or upon complaint, may order the Electric Reliability Organization to submit to the Commission a proposed reliability standard or a modification to a reliability standard that addresses a specific matter if the Commission considers such a new or modified reliability standard appropriate to carry out this section.

³ 16 U.S.C. 824o(d)(5).

For hydropower projects, section 19 of the FPA ⁴ provides that, as a condition of a license, jurisdiction is conferred upon the Commission, upon complaint of any person aggrieved or upon its own initiative, to exercise such regulation and control over services, rates, and charges until such time as the State shall have provided a commission or other authority for such regulation and control.

⁴ 16 U.S.C. 812.

For qualifying facilities, section 210(h)(2)(B) of PURPA ⁵ provides that any electric utility, qualifying cogenerator, or qualifying small power producer may petition the Commission to enforce the requirements of the Commission's PURPA regulations.

⁵ 16 U.S.C. 824a-3(h)(2)(B).

For oil pipelines, in Part 1 of the Interstate Commerce Act, sections 1, 6 and 15 (recodified by Pub. L. 95-473 and found as an appendix to Title 49 U.S.C.),⁶ the Commission is authorized to investigate the rates charged by oil pipeline companies subject to its jurisdiction. If such rate has been filed and allowed by the Commission to go into effect without suspension and hearing, the Commission can investigate the effective rate on its own motion or by complaint filed with the Commission. Section 13 of the ICA ⁷ provides that any person can file a complaint regarding anything done or omitted to be done by an oil pipeline.

⁶ 49 App. U.S.C. 1 et seq (1988).

⁷ Id. 13.

In Order No. 602,⁸ the Commission revised its regulations governing complaints filed with the Commission under the above statutes. Order No. 602 was designed to encourage and support consensual resolution of complaints, and to organize the complaint procedures so that all complaints are handled in a timely and fair manner. In order to achieve this result, the Commission revised Rule 206 of its Rules of Practice and Procedure (18 CFR 385.206) to require that a complaint satisfy certain informational requirements, to require that answers be filed in a 20-day time frame, and to provide that parties may employ various types of alternative dispute resolution procedures to resolve their disputes.

⁸ 64 FR 17087 (April 8, 1999)

The data in complaints filed by interested/affected parties regarding jurisdictional oil, natural gas, electric and hydropower operations, facilities, and services are used by the Commission in establishing a basis to make an initial determination regarding the merits of the complaint and whether or not to undertake further investigation or provide relief. Investigations may range from whether there is undue discrimination in rates or services to questions regarding market power of regulated entities to environmental concerns. In order to make an informed determination, it is important to know the specifics underlying any oil, gas, electric, and hydropower complaint “up-front” in a timely manner and in sufficient detail to allow the Commission to act swiftly. In addition, such complaint data help the Commission and interested parties to monitor, e.g., the market for undue discrimination or exercises of market power. The information submitted is voluntary but submitted pursuant to prescribed filing requirements. The Commission implements these filing requirements in the Code of Federal Regulations (CFR) under 18 CFR parts 343 and 385.206.

Type of Respondents: Interested/affected parties regarding oil, natural gas, electric and hydropower operations, facilities, and services.

Estimate of Annual Burden ⁹: The Commission estimates the annual public reporting burden for the information collection as:

⁹ The Commission defines burden as the total time, effort, or financial resources expended by persons to generate, maintain, retain, or disclose or provide information to or for a Federal agency. For further explanation of what is included in the information collection burden, reference 5 Code of Federal Regulations 1320.3.

FERC-600, Rules of Practice and Procedure: Complaint Procedures
Number of respondents | Annual number of responses per respondent | Total number of responses | Average burden and cost per response | Total annual burden hours and total annual cost | Cost per respondent ($)
(1) | (2) | (1) * (2) = (3) | (4) | (3) * (4) = (5) | (5) ÷ (1)
62 | 1 | 62 | ¹⁰ 160 | ¹² 9,920 | $11,280
|  |  | ¹¹ $11,280 | ¹³ $699,360

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

¹⁰ As indicated in the 60-day notice, we re-evaluated the time and effort involved in preparing and filing a complaint, in light of the current complexities of the industries regulated by FERC. As a result, we think an estimate of 160 hours per complaint is a more realistic average of the burden per filing. The reporting requirements have not been revised.

¹¹ $70.50/hour is the average hourly cost of a FERC employee (salary plus benefits) for Fiscal Year 2014. We assume that the respondents to this collection are similarly situated in terms of salary plus benefits.

Average cost per response = Average burden hours per response [160 hours] * $70.50 per hour.

¹² Total annual burden hours = Total number of responses [62] * Average burden hours per response [160].

¹³ Total annual cost = Total annual burden hours [9,920] * hourly cost [$70.50].

Dated: April 23, 2014.
Kimberly D. Bose,
Secretary.

[FR Doc. 2014-09802 Filed 4-29-14; 8:45 am]

BILLING CODE 6717-01-P